DEPARTMENT OF JUSTICE

Notice of Lodging of Consent Decree Under the Comprehensive Environmental Response, Compensation and Liability Act (CERCLA)

Consistent with Section 122(d)(2) of CERCLA, 42 U.S.C. 9622(d)(2), and 28 CFR 50.7, notice is hereby given that on May 6, 2005, proposed Consent Decrees in United States v. Brook Village Associates Limited Partnership and United States v. Centerdale Manor Associates, Civil Action No. 05-CV-195, were lodged with the United States District Court for the District of Rhode Island. The proposed Consent Decrees resolve the United States' claims under Sections 106 and 107(a) of the Comprehensive Environmental Response, Compensation, and Liability Act (“CERCLA”), 42 U.S.C. 9606 and 9607(a), and Section 7003 of the Resource Conservation and Recovery Act, 42 U.S.C. 6973, against Brook Village and Centerdale Manor relating to natural resource damages and response costs that have been or will be incurred at or from a Site known as the Centerdale Manor Restoration Project Superfund Site located in North Providence, Rhode Island. These settlements are based in part upon Brook Village's and Centerdale Manor's limited ability to pay. The Brook Village Consent Decree requires Brook Village to pay a total of $1,451,936 as follows: $1,129,331.12 to the United States Environmental Protection Agency (“EPA”), which will be placed in a Superfund special account; $68,450 to the Department of the Interior (“DOI”) for natural resource damages and assessment costs; $150,000 to an escrow account to cover Brook Village's ongoing obligations under previous enforcement orders; $104,154.88 to the State of Rhode Island; and 75% of any future insurance recoveries shall be paid to EPA. The Centerdale Manor Consent Decree requires Centerdale Manor to pay $2,311,364 as follows: $1,920,004.88 to EPA, which will be placed in a Superfund special account; $68,450 to DOI for natural resource damages and assessment costs; $150,000 to an escrow account to cover Centerdale Manor's ongoing obligations under previous enforcement orders; $172,909.12 to the State; and 100% of any future insurance recoveries shall be paid to EPA. The Brook Village and Centerdale Manor Consent Decrees provide covenants not to sue and contribution protection to Brook Village and Centerdale Manor and to current and former general and limited partners, and their officers, directors, heirs, successors and assigns, but only to the extent that the alleged liability of such persons is based solely on their status as and in their capacity as a partner, officer, director, heir, successor, or assign of Brook Village or Centerdale Manor. The Consent Decrees also provide a covenant not to sue and contribution protection to the Rhode Island Housing and Mortgage Finance Corporation.

The Department of Justice will receive for a period of thirty (30) days from the date of this publication comments relating to the proposed Consent Decree. Comments should be addressed to the Assistant Attorney General, Environment and Natural Resources Division, P.O. Box 7611, U.S. Department of Justice, Washington, DC 20044-7611, and should refer to United States v. Centerdale Manor, and/or United States v. Brook Village, D.J. Ref. 90-11-3-07101.

The proposed Consent Decree may be examined at the Office of the United States Attorney, Fleet Center, 50 Kennedy Plaza, 8th Floor, Providence, Rhode Island 02903 and at U.S. EPA, Region 1, One Congress Street, Boston, MA. During the public comment period, the Consent Decree may also be examined on the following Department of Justice Web site, http://www.usdoj.gov/enrd/open.html. A copy of the proposed Consent Decrees may also be obtained by mail from the Consent Decree Library, P.O. Box 7611, U.S. Department of Justice, Washington, DC 20044-7611 or by faxing or e-mailing a request to Tonia Fleetwood (tonia.fleetwood@usdoj.gov), fax no. (202) 514-0097, phone confirmation no. (202) 514-1547. For a copy of the proposed Consent Decree including the signature pages and attachments, please enclose a check in the amount of $14.00 (25 cents per page reproduction cost) payable to “U.S. Treasury.”

Bruce S. Gelber,
Chief, Environmental Enforcement Section, Environment and Natural Resources Division.

[FR Doc. 05-10488 Filed 5-25-05; 8:45 am]

BILLING CODE 4410-15-M